FEDERAL RESERVE SYSTEM

Change in Bank Control Notices, Acquisition of Shares of Bank or Bank Holding Companies; Correction

This notice corrects a notice (FR Doc. E7-2770) published on page 7656 of the issue for Friday, February 16, 2007.

Under the Federal Reserve Bank of Kansas City heading, the entry for Bishop Limited Partnership, and its general partner, Cheryl R. Bishop, Burlington, Washington, is revised to read as follows:

A. Federal Reserve Bank of San Francisco (Tracy Basinger, Director, Regional and Community Bank Group) 101 Market Street, San Francisco, California 94105-1579:

1. Bishop Limited Partnership, and its general partner, Cheryl R. Bishop; to acquire additional voting shares of Skagit State Bancorp, Inc., and thereby indirectly acquire voting shares of Skagit State Bank, all of Burlington, Washington.

Comments on this application must be received by March 6, 2007.

Board of Governors of the Federal Reserve System, February 16, 2007.
Robert deV. Frierson,
Deputy Secretary of the Board.

[FR Doc. E7-2990 Filed 2-21-07; 8:45 am]

BILLING CODE 6210-01-S